DEPARTMENT OF HEALTH AND HUMAN SERVICES

National Institutes of Health

National Center for Advancing Translational Sciences; Notice of Meeting

Pursuant to section 10(a) of the Federal Advisory Committee Act, as amended (5 U.S.C. App.), notice is hereby given of a meeting of the Cures Acceleration Network Review Board.

The meeting will be open to the public, viewing virtually by WebEx.

Individuals can register to view and access the meeting by the link below.

https://nih.webex.com/nih/onstage/g.php?MTID=e75f38f731121aae102c9a0e75cabdaf9

1. Go to “Event Status” on the left hand side of page, then click “Register”. On the registration form, enter your information and then click “Submit” to complete the required registration.

2. You will receive a personalized email with the live event link.

Name of Committee: Cures Acceleration Network Review Board.

Date: December 11, 2015.

Time: 11:00 a.m. to 2:00 p.m.

Agenda: The CAN Review Board will meet virtually to discuss updates regarding CAN programs and next steps.

Place: National Institutes of Health, One Democracy Plaza, 6701 Rockledge Drive, Bethesda, MD 20892 (Virtual Meeting).

Contact Person: Anna L. Ramsey-Ewing, Ph.D., Executive Secretary, National Center for Advancing Translational Sciences, One Democracy Plaza, Room 1072, Bethesda, MD 20892, 301-435-0809, anna.ramseyewing@nih.gov.

This notice is being published less than 15 days prior to the meeting due to finalizing the agenda and scheduling of meeting topics.

Any interested person may file written comments with the committee by forwarding the statement to the Contact Person listed on this notice. The statement should include the name, address, telephone number and when applicable, the business or professional affiliation of the interested person.

(Catalogue of Federal Domestic Assistance Program Nos. 93.859, Pharmacology, Physiology, and Biological Chemistry Research; 93.350, B—Cooperative Agreements; 93.859, Biomedical Research and Research Training, National Institutes of Health, HHS)

Dated: November 23, 2015.
David Clary,
Program Analyst, Office of Federal Advisory Committee Policy.

[FR Doc. 2015-30230 Filed 11-27-15; 8:45 am]

BILLING CODE 4140-01-P